INTERNATIONAL TRADE COMMISSION

[Investigation No. 731-TA-1279 (Final) (Second Remand)]

Hydrofluorocarbon Blends and Components From China

AGENCY: United States International Trade Commission.

ACTION: Notice of remand proceedings.

SUMMARY: The U.S. International Trade Commission (“Commission”) hereby gives notice of the court-ordered remand of its final determination in the antidumping duty investigation of hydrofluorocarbon blends and components (“HFC”) from China. For further information concerning the conduct of these remand proceedings and rules of general application, consult the Commission's Rules of Practice and Procedure.

DATES: December 6, 2018.

FOR FURTHER INFORMATION CONTACT: Joanna Lo (202-205-1888), Office of Investigations, or P.V. Gallagher (202-205-3152), Office of the General Counsel, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record of Investigation No. 731-TA-1279 (Final) may be viewed on the Commission's electronic docket (EDIS) at http://edis.usitc.gov.

SUPPLEMENTARY INFORMATION:

Background.—On November 5, 2018, the U.S. Court of International Trade, per Judge Leo M. Gordon, issued a second opinion in Arkema, Inc. v. United States, Court No. 16-00179. In this second opinion, the CIT remanded to the agency two issues concerning the Commission's like product determination in Hydrofluorocarbon (“HFC”) Blends and Components from China, Inv. No. 731-TA-1279 (Final), USITC Pub. 4629 (Aug. 2016). In the investigation, the Commission applied its five-factor finished/semi-finished product analysis and determined that there were two domestic like products, one comprised of HFC components and one comprised of HFC blends. The Commission then determined that the domestic industry producing HFC blends was materially injured by reason of subject imports of HFC blends, whereas the domestic industry producing HFC components was not materially injured or threatened with material injury by reason of subject imports of HFC components. Petitioners appealed the decisions to the CIT, challenging the Commission's determination that there were two domestic like products consisting of HFC blends and HFC components. In its first opinion, the CIT remanded two issues to the Commission and affirmed all other aspects of the Commission's domestic like product determination. See Arkema, Inc. v. United States, Court No. 16-00179, 42 CIT __, 290 F.Supp.3d 1363 (2018). The Commission filed its remand with the Court on May 5, 2018. In its second opinion, the CIT held that the Commission's domestic like product determination remained deficient regarding the same two issues and again remanded these two issues to the Commission for reconsideration and explanation. Arkema, Inc. v. United States, Court No. 16-00179, Slip. Op. 18-153 (Ct. Int'l Trade November 5, 2018).

Participation in the proceeding.—Only those persons who were interested parties that participated in the investigations (i.e., persons listed on the Commission Secretary's service list) and also parties to the appeal may participate in the remand proceedings. Such persons need not make any additional notice of appearances or applications with the Commission to participate in the remand proceedings, unless they are adding new individuals to the list of persons entitled to receive business proprietary information (“BPI”) under administrative protective order. BPI referred to during the remand proceedings will be governed, as appropriate, by the administrative protective order issued in the investigation. The Secretary will maintain a service list containing the names and addresses of all persons or their representatives who are parties to the remand proceedings, and the Secretary will maintain a separate list of those authorized to receive BPI under the administrative protective order during the remand proceedings.

Written Submissions.—The Commission is reopening the record in these proceedings for the limited purpose of issuing a short supplemental questionnaire to U.S. producers and blenders. The Commission is not otherwise reopening the record for the collection of new factual information. The Commission will make available any new factual information obtained during the remand proceedings not already served to parties in the investigations (as identified by the public or BPI service list). The Commission will permit the parties to file written comments on any new factual information obtained during the remand proceedings and on how the Commission could best comply with the CIT's remand instructions.

The comments must be based only on the information in the Commission's record, including any new information collected in these remand proceedings. The Commission will reject submissions containing additional factual information or arguments pertaining to issues other than those on which the CIT has remanded this matter. The deadline for filing comments is January 7, 2019. Comments shall be limited to no more than ten (10) double-spaced and single-sided pages of textual material.

Parties are advised to consult with the Commission's Rules of Practice and Procedure, part 201, subparts A through E (19 CFR part 201), and part 207, subpart A (19 CFR part 207) for provisions of general applicability concerning written submissions to the Commission. All written submissions must conform to the provisions of section 201.8 of the Commission's rules; any submissions that contain BPI must also conform to the requirements of sections 201.6, 207.3, and 207.7 of the Commission's rules. The Commission's Handbook on E-Filing, available on the Commission's website at http://edis.usitc.gov, elaborates upon the Commission's rules with respect to electronic filing.

Additional written submissions to the Commission, including requests pursuant to section 201.12 of the Commission's rules, will not be accepted unless good cause is shown for accepting such submissions or unless the submission is pursuant to a specific request by a Commissioner or Commission staff.

In accordance with sections 201.16(c) and 207.3 of the Commission's rules, each document filed by a party to the investigation must be served on all other parties to the investigation (as identified by either the public or BPI service list), and a certificate of service must be timely filed. The Secretary will not accept a document for filing without a certificate of service.

By order of the Commission.
Issued: December 10, 2018.
Lisa Barton,
Secretary to the Commission.

[FR Doc. 2018-27088 Filed 12-13-18; 8:45 am]

BILLING CODE 7020-02-P